DEPARTMENT OF COMMERCE

National Institute of Standards and Technology

Notice of Localization and Tracking System Testing Consortium

AGENCY: National Institute of Standards and Technology

ACTION: Notice of Research Consortium Deadline Extension.

SUMMARY: On November 1, 2017, the National Institute of Standards and Technology (NIST) published a Federal Register notice regarding the establishment of the Localization and Tracking System (LTS) Testing Consortium, inviting organizations to participate in this Consortium. The purpose of this Federal Register notice is to extend the deadline for acceptance of letters of interest for participation in the LTS Testing Consortium, as indicated in the DATES section below, from December 15, 2017, to January 31, 2018.

DATES: Letters of interest for participation in this LTS Testing Consortium will be accepted until January 31, 2018. LTS testing is expected to occur in May or June 2018, with a pre-event workshop in March. Dates are subject to change, however.

ADDRESSES: Letters of interest and requests for additional information can be directed to the NIST LTS Testing Consortium Manager, Nader Moayeri, of the Advanced Network Technologies Division of NIST's Information Technology Laboratory. Nader Moayeri's contact information is NIST, 100 Bureau Drive, Stop 8920, Gaithersburg, MD 20899-8920, USA, email: nader.moayeri@nist.gov, and telephone: +1 301-975-3767.

FOR FURTHER INFORMATION CONTACT: For further information regarding the terms and conditions of NIST's CRADA, please contact Jeffrey DiVietro, CRADA and License Officer, NIST's Technology Partnerships Office, by mail to 100 Bureau Drive, Mail Stop 2200, Gaithersburg, Maryland 20899-2200, by email to jeffrey.divietro@nist.gov, or by telephone at +1 301-975-8779.

SUPPLEMENTARY INFORMATION:

On November 1, 2017, NIST published a Federal Register notice, 82 FR 50626, regarding the establishment of the LTS Testing Consortium and inviting organizations to participate in this Consortium. The purpose of this new Federal Register notice is to extend the deadline for acceptance of letters of interest for participation in the LTS Testing Consortium from December 15, 2017 to January 31, 2018. Participants in the Consortium will be required to sign a Cooperative Research and Development Agreement (CRADA).

Authority: 15 U.S.C. 3710a.

Kevin Kimball,
NIST Chief of Staff.

[FR Doc. 2017-27889 Filed 12-26-17; 8:45 am]

BILLING CODE 3510-13-P